OFFICE OF MANAGEMENT AND BUDGET

OMB Sequestration Update Report to the President and Congress for Fiscal Year 2024

AGENCY: Office of Management and Budget, Executive Office of the President.

ACTION: Notice of availability of the OMB Sequestration Update Report to the President and Congress for FY 2024.

SUMMARY: OMB is issuing the OMB Sequestration Update Report to the President and Congress for Fiscal Year 2024 to report on the status of the discretionary spending limits and on the compliance of pending discretionary appropriations legislation with those limits.

DATES: August 20, 2023.

ADDRESSES: The OMB Sequestration Reports to the President and Congress is available on-line on the OMB home page at: https://www.whitehouse.gov/omb/legislative/sequestration-reports-orders/.

FOR FURTHER INFORMATION CONTACT: Thomas Tobasko, 6202 New Executive Office Building, Washington, DC 20503, Email address: ttobasko@omb.eop.gov, telephone number: (202) 395-5745, FAX number: (202) 395-4768. Because of delays in the receipt of regular mail related to security screening, respondents are encouraged to use electronic communications.

SUPPLEMENTARY INFORMATION: Section 254 of the Balanced Budget and Emergency Deficit Control Act of 1985 requires the Office of Management and Budget (OMB) to issue a Sequestration Update Report by August 20th of each year statutory discretionary spending caps are in place. For fiscal year 2024, the report finds that, under OMB estimates, actions to date by the House of Representatives and the Senate for the 12 annual appropriations bills for fiscal year 2024 would not breach either the defense or non-defense caps if they were enacted into law. The report contains OMB's Preview Estimate of the Disaster Relief Funding Adjustment for FY 2024.

Shalanda D. Young,
Director.

[FR Doc. 2023-18052 Filed 8-21-23; 8:45 am]

BILLING CODE 3110-01-P